DEPARTMENT OF TRANSPORTATION

Federal Aviation Administration

14 CFR Part 39

[Docket No. FAA-2008-1319; Directorate Identifier 2008-CE-071-AD]

RIN 2120-AA64

Airworthiness Directives; Cessna Aircraft Company Models 208 and 208B Airplanes

AGENCY: Federal Aviation Administration (FAA), Department of Transportation (DOT).

ACTION: Notice of proposed rulemaking (NPRM).

SUMMARY: We propose to adopt a new airworthiness directive (AD) for certain Cessna Aircraft Company (Cessna) Models 208 and 208B airplanes. This proposed AD would require you to modify the aileron carry-through cable attachment to the aileron upper quadrant with parts of improved design. This proposed AD results from reports of a “catch” in the aileron control system when the control yoke is turned. We are proposing this AD to prevent the cable attach fitting on the aileron upper quadrant assembly from rotating and possibly contacting or interfering with the aileron lower quadrant assembly, which could result in limited roll control and reduced handling capabilties.

DATES: We must receive comments on this proposed AD by February 17, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Company, P.O. Box 7704, Wichita, Kansas 67277; telephone: (800) 423-7762 or (316) 517-6056; Internet: http://www.cessna.com.

FOR FURTHER INFORMATION CONTACT: Ann Johnson, Aerospace Engineer, FAA, Wichita Aircraft Certification Office, 1801 Airport Road, Room 100, Wichita, Kansas 67209; telephone: 316-946-4105; fax: 316-946-4107; e-mail address: ann.johnson@faa.gov.

SUPPLEMENTARY INFORMATION:

Comments Invited

We invite you to send any written relevant data, views, or arguments regarding this proposed AD. Send your comments to an address listed under the ADDRESSES section. Include the docket number, “FAA-2008-1319; Directorate Identifier 2008-CE-071-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have reports of a “catch” in the aileron control system when the control yoke is turned on a Cessna Aircraft Company (Cessna) Model 208 airplane.

The “catch” is caused by the cable end fitting, part number (P/N) 2660033, rotating out of its normal position and rubbing against the lower aileron quadrant assembly, P/N 2660032-7.

The reason that the cable end fitting rotates is unknown. Tension on the cable is what has been keeping the fitting flat and preventing rotation.

Cessna Aircraft Company has reconfigured the design of the existing nut on the cable fitting with two jam nuts, a spring washer, and safety wire to prevent rotation of the cable end.

This condition, if not corrected, could result in limited roll control and reduced handling capabilties.

Relevant Service Information

We have reviewed Cessna Caravan Service Bulletin CAB08-6, dated October 27, 2008.

The service information describes procedures for modifying the aileron carry-through cable attachment to the aileron upper quadrant.

FAA's Determination and Requirements of the Proposed AD

We are proposing this AD because we evaluated all information and determined the unsafe condition described previously is likely to exist or develop on other products of the same type design. This proposed AD would require you to modify the aileron carry-through cable attachment to the aileron upper quadrant with parts of improved design.

Costs of Compliance

We estimate that this proposed AD would affect 794 airplanes in the U.S. registry.

We estimate the following costs to do the proposed modification:

Labor cost | Parts cost | Total cost per airplane | Total cost on U.S. operators
2 work-hours × $80 per hour = $160 | Not applicable | $160 | $127,040

We estimate the following costs to do any necessary repairs and replacements that would be required based on doing the proposed modification. We have no way of determining the number of airplanes that may need these repairs or replacements.

We estimate the following costs to do possible damage repair to the aileron lower quadrant assembly, if necessary:

Labor cost | Parts cost | Total cost per airplane
.5 work-hours × $80 per hour = $40 | Not applicable | $40

We estimate the following costs to do possible removal and installation of the aileron lower quadrant assembly, if necessary:

Labor cost | Parts cost | Total cost per airplane
2 work-hours × $80 per hour = $160 | Not applicable | $160

We estimate the following costs to do possible removal and installation of the headliner, if necessary:

Labor cost | Parts cost | Total cost per airplane
16 work-hours × $80 per hour = $1,280 | Not applicable | $1,280

Warranty credit will be given for parts and labor to the extent specified in the manufacturer's service bulletin.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2008-1319; Directorate Identifier 2008-CE-071-AD.

Comments Due Date

(a) We must receive comments on this airworthiness directive (AD) action by February 17, 2009.

Affected ADs

(b) None.

Applicability

(c) This AD applies to the following airplane models and serial numbers that are certificated in any category:

Model | Serial Nos.
208 | 20800001 through 20800415 and 20800417 through 20800419.
208B | 208B0001 through 208B1081, 208B1083 through 208B1215, 208B1217 through 208B1257, 208B1259 through 208B1305, 208B1307, and 208B1309 through 208B1310.

Unsafe Condition

(d) This AD results from reports of a “catch” in the aileron control system when the control yoke is turned. We are issuing this AD to prevent the cable attach fitting on the aileron upper quadrant assembly from rotating and possibly contacting or interfering with the aileron lower quadrant assembly, which could result in limited roll control and reduced handling capabilties.

Compliance

(e) To address this problem, you must do the following, unless already done:

Actions | Compliance | Procedures
Modify the aileron carry-through cable attachment to the aileron upper quadrant with parts of improved design | Within the next 100 hours time-in-service after the effective date of this AD or within the next 6 months after the effective date of this AD, whichever occurs first | Follow the Accomplishment Instructions in Cessna Caravan Service Bulletin CAB08-6, dated October 27, 2008.

Alternative Methods of Compliance (AMOCs)

(f) The Manager, Wichita Aircraft Certification Office (ACO), FAA, has the authority to approve AMOCs for this AD, if requested using the procedures found in 14 CFR 39.19. Send information to ATTN: Ann Johnson, Aerospace Engineer, FAA, Wichita ACO, 1801 Airport Road, Room 100, Wichita, Kansas 67209; telephone: 316-946-4105; fax: 316-946-4107; e-mail address: ann.johnson@faa.gov. Before using any approved AMOC on any airplane to which the AMOC applies, notify your appropriate principal inspector (PI) in the FAA Flight Standards District Office (FSDO), or lacking a PI, your local FSDO.

Related Information

(g) To get copies of the service information referenced in this AD, contact Cessna Aircraft Company, P.O. Box 7704, Wichita, Kansas 67277; telephone: (800) 423-7762 or (316) 517-6056; Internet: http://www.cessna.com. To view the AD docket, go to U.S. Department of Transportation, Docket Operations, M-30, West Building Ground Floor, Room W12-140, 1200 New Jersey Avenue, SE., Washington, DC 20590, or on the Internet at http://www.regulations.gov.

Issued in Kansas City, Missouri, on December 12, 2008.
Kim Smith,
Manager, Small Airplane Directorate, Aircraft Certification Service.

[FR Doc. E8-30044 Filed 12-17-08; 8:45 am]

BILLING CODE 4910-13-P